ENVIRONMENTAL PROTECTION AGENCY

40 CFR Parts 52 and 81

[EPA-R03-OAR-2024-0586; FRL-10536-02-R3]

Air Plan Approval; Pennsylvania; Redesignation Request and Associated Maintenance Plan for the Liberty-Clairton Area for the 1997 Annual and 2006 24-Hour Fine Particulate Matter Standard and Maintenance Plan for the Allegheny County Area for the 2012 Annual Fine Particulate Matter Standard

AGENCY: Environmental Protection Agency (EPA).

ACTION: Final rule.

SUMMARY: The Environmental Protection Agency (EPA) is approving the Commonwealth of Pennsylvania's request to redesignate to attainment the Liberty-Clairton, Pennsylvania nonattainment area (Liberty-Clairton Area) for the 1997 annual and 2006 24-hour fine particulate matter (PM2.5) national ambient air quality standards (NAAQS or standard). The EPA has determined that the Liberty-Clairton Area attained both the 1997 annual and 2006 24-hour PM2.5 NAAQS and has met the statutory requirements for redesignation. The EPA is approving, as a revision to the Pennsylvania State Implementation Plan (SIP), the Commonwealth's plan for maintaining the 1997 annual and 2006 24-hour PM2.5 NAAQS through 2035 for the Liberty-Clairton Area. Additionally, the EPA is approving the maintenance plan for the Allegheny County, Pennsylvania nonattainment area (Allegheny County Area) for the 2012 annual PM2.5 NAAQS through 2035. The maintenance plan includes 2017, 2026, and 2035 mobile vehicle emissions budgets (MVEBs) for mobile sources of PM2.5 and nitrogen oxides (NOX) for the Allegheny County Area for the 2012 annual PM2.5 NAAQS, which the EPA is approving for transportation conformity purposes. This action does not redesignate the Allegheny County Area to attainment for the 2012 annual PM2.5 NAAQS. Both the redesignation request and maintenance plan were submitted by the Commonwealth of Pennsylvania Department of Environmental Protection (PADEP or Pennsylvania) on behalf of the Allegheny County Health Department (ACHD). This action is being taken under the CAA.

DATES: This final rule is effective on August 25, 2025.

ADDRESSES: The EPA has established a docket for this action under Docket ID Number EPA-R03-OAR-2024-0586. All documents in the docket are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Ian Neiswinter, Planning & Implementation Branch (3AD30), Air & Radiation Division, U.S. Environmental Protection Agency, Region III, 1600 John F. Kennedy Boulevard, Philadelphia, Pennsylvania 19103. The telephone number is (215) 814-2011. Mr. Neiswinter can also be reached via electronic mail at neiswinter.ian@epa.gov.

SUPPLEMENTARY INFORMATION: Throughout this document, wherever “we,” “us,” or “our” are used, it is intended to refer to the EPA.

I. Background

On January 5, 2005 (70 FR 944), the EPA published air quality area designations for the 1997 PM2.5 NAAQS based upon air quality monitoring data for calendar years 2001-2003. In that rulemaking action, the EPA designated the Liberty-Clairton Area as nonattainment for the 1997 annual PM2.5 and 24-hour PM2.5 NAAQS.¹ On November 13, 2009 (74 FR 58688), the EPA published designations for the 2006 24-hour PM2.5 NAAQS based on certified air quality data from 2006-2008, which became effective on December 14, 2009. In that action, the EPA designated the Liberty-Clairton Area as nonattainment for the 2006 24-hour PM2.5 NAAQS, retaining the same geographical boundaries as for the 1997 annual PM2.5 NAAQS. In that same action, the EPA clarified that the Liberty-Clairton Area is designated as unclassifiable/attainment for the 1997 24-hour PM2.5 NAAQS but retained the 1997 annual PM2.5 NAAQS nonattainment designation. On January 15, 2015 (80 FR 2206), the EPA published air quality designations for the 2012 annual PM2.5 NAAQS based on certified air quality data from 2011-2013. In that action, the EPA designated all municipalities in Allegheny County, Pennsylvania (Allegheny County Area) as one nonattainment area for the 2012 annual PM2.5 NAAQS.²

¹ The Liberty-Clairton Area is comprised of the following municipalities in Allegheny County, Pennsylvania: the boroughs of Liberty, Lincoln, Port Vue, and Glassport, and the City of Clairton. The table listed at 40 Code of Federal Regulations (CFR) 81.339 defines NAAQS area designations within Pennsylvania.

² The Allegheny County Area is comprised of all municipalities within Allegheny County, Pennsylvania, and subsumes the municipalities which comprise the Liberty-Clairton Area. The table listed at 40 CFR 81.339 defines NAAQS area designations within Pennsylvania.

Section 107(d)(3)(E) of the CAA allows redesignation of an area to attainment of the NAAQS provided that: (1) the Administrator (EPA) determines that the area has attained the applicable NAAQS; (2) the Administrator has fully approved the applicable implementation plan for the area under section 110(k) of the CAA; (3) the Administrator determines that the improvement in air quality is due to permanent and enforceable reductions in emissions resulting from implementation of the applicable SIP, applicable Federal air pollutant control regulations, and other permanent and enforceable emission reductions; (4) the Administrator has fully approved a maintenance plan for the area as meeting the requirements of section 175A of the CAA; and (5) the State containing the area has met all requirements applicable to the area for purposes of redesignation under section 110 and part D of the CAA.

On November 30, 2022, PADEP on behalf of ACHD, formally submitted a redesignation request for the Liberty-Clairton Area for the 1997 annual and 2006 24-hour PM2.5 NAAQS and for the Allegheny County Area for the 2012 annual PM2.5 NAAQS. As part of the request, PADEP submitted, as a Pennsylvania SIP revision, a combined maintenance plan for each area's respective NAAQS to ensure continued attainment throughout the areas through 2035, as required by CAA section 107(d)(3)(E)(iv).³ On May 2, 2024, PADEP submitted to the EPA a partial withdrawal of the November 30, 2022 SIP revision. Specifically, PADEP withdrew only the portion of the SIP revision pertaining to the request to redesignate the Allegheny County Area to attainment for the 2012 annual PM2.5 NAAQS. However, PADEP retained the portion of the SIP revision pertaining to the maintenance plan for the Allegheny County Area for the 2012 annual PM2.5 NAAQS. PADEP also retained the request to redesignate the Liberty-Clairton Area for the 1997 annual and 2006 24-hour PM2.5 NAAQS to attainment along with the associated maintenance plan for the Liberty-Clairton Area.

³ CAA section 175A(a) mandates that the initial maintenance plan submission must cover at least 10 years from the effective date of redesignation.

On April 7, 2025 (90 FR 14939), the EPA published a notice of proposed rulemaking (NPRM) for the Commonwealth of Pennsylvania. In the NPRM, the EPA proposed approval of Pennsylvania's November 30, 2022 request to redesignate the Liberty-Clairton Area to attainment for the 1997 annual and 2006 24-hour PM2.5 NAAQS. The EPA also proposed approval of the maintenance plan, as a revision to the Pennsylvania SIP, for the Liberty-Clairton Area for the 1997 annual and 2006 24-hour PM2.5 NAAQS, and for the Allegheny County Area for the 2012 annual PM2.5 NAAQS. The maintenance plan includes the 2017, 2026, and 2035 PM2.5 and NOX MVEBs for the Allegheny County Area for the 2012 annual PM2.5 NAAQS, which the EPA proposed to approve for purposes of transportation conformity.

II. Summary of SIP Revision and EPA Analysis

The EPA reviewed Pennsylvania's redesignation request and found that the requirements for redesignating the Liberty-Clairton Area to attainment for the 1997 annual and 2006 24-hour PM2.5 NAAQS have been satisfied pursuant to CAA section 107(d)(3)(E). As one of the criteria for redesignation to attainment, CAA section 107(d)(3)(E)(iv) requires the EPA to determine that the area has a fully approved maintenance plan pursuant to CAA section 175A that demonstrates continued attainment of the NAAQS for at least 10 years following redesignation to attainment. The EPA reviewed the maintenance plan submitted by Pennsylvania for the Liberty-Clairton Area for the 1997 annual and 2006 24-hour PM2.5 NAAQS and for the Allegheny County Area for the 2012 annual PM2.5 NAAQS and found that it satisfied the requirements of section 175A. The maintenance plan includes 2017, 2026, and 2035 MVEBs for mobile sources of PM2.5 and NOX for the Allegheny County Area for the 2012 annual PM2.5 NAAQS. The EPA found the submitted MVEBs to be adequate and approvable as a revision to the Pennsylvania SIP. For the 1997 annual PM2.5 NAAQS, transportation conformity will cease to apply on the effective date of the Liberty-Clairton Area's redesignation to attainment. After that date, conformity determinations for the 1997 annual PM2.5 NAAQS for metropolitan transportation plans, metropolitan TIPs, or transportation projects are no longer required for this NAAQS. For the 2006 24-hour PM2.5 NAAQS, the Liberty-Clairton Area motor vehicles emissions are deemed insignificant.⁴ Since the motor vehicle emissions are insignificant for this NAAQS, a regional emissions analysis is not required; however, the Liberty-Clairton Area must continue to follow procedures such as interagency consultation, as described in the transportation conformity rule (40 CFR part 93, subpart A).

⁴ See 40 CFR 93.109(f).

The details of Pennsylvania's submittal and the rationale for the EPA's proposed actions are explained in the NPRM and will not be restated here. The EPA received one anonymous, non-adverse, non-significant comment on the NPRM that purported to be CBI. No adverse public comments were received on the NPRM.

III. Final Action

The EPA is taking final action to redesignate the Liberty-Clairton Area for the 1997 annual and 2006 24-hour PM2.5 NAAQS from nonattainment to attainment. In doing so, the EPA is taking final action to approve the relevant maintenance plan SIP revisions by the Commonwealth of Pennsylvania, which includes a maintenance plan for the Liberty-Clairton Area for the 1997 annual and 2006 24-hour PM2.5 NAAQS, and the Allegheny County Area for the 2012 annual PM2.5 NAAQS. In taking this action, the EPA finds that: (1) monitoring data demonstrate that the Liberty-Clairton Area has attained and continues to attain the 1997 annual and 2006 24-hour PM2.5 NAAQS; (2) Pennsylvanian's redesignation request specific to the Liberty-Clairton Area for the 1997 annual and 2006 24-hour PM2.5 NAAQS meets the statutory requirements of CAA section 107(d)(3)(E) for redesignation for both NAAQS; and (3) the maintenance plan for the Liberty-Clairton Area for the 1997 annual and 2006 24-hour PM2.5 NAAQS and for the Allegheny County Area for the 2012 annual PM2.5 NAAQS meets the statutory requirements of CAA section 175A. The maintenance plan includes the 2017, 2026, and 2035 PM2.5 and NOX MVEBs submitted by Pennsylvania for the Allegheny County Area for the 2012 annual PM2.5 NAAQS for transportation conformity purposes.

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by September 22, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Nitrogen dioxide, Ozone, Particulate matter, Reporting and recordkeeping requirements, Sulfur oxides, Volatile organic compounds.

40 CFR Part 81

Environmental protection, Air pollution control, Carbon monoxide, Intergovernmental relations, Lead, Nitrogen dioxide, Ozone, Particulate matter, Reporting and recordkeeping requirements, Sulfur oxides, Volatile organic compounds.

Amy Van Blarcom-Lackey,
Regional Administrator, Region III.

For the reasons stated in the preamble, the EPA amends 40 CFR parts 52 and 81 as follows:

PART 52—APPROVAL AND PROMULGATION OF IMPLEMENTATION PLANS

1. The authority citation for part 52 continues to read as follows:

Authority: 42 U.S.C. 7401 et seq.

Subpart NN—Pennsylvania

2. In § 52.2020, the table in paragraph (e)(1) is amended by adding two entries “1997 Annual and 2006 24-Hour PM2.5 NAAQS Maintenance Plan” and “2012 Annual PM2.5 NAAQS Maintenance Plan” at the end of the table to read as follows:

§ 52.2020 Identification of plan.

* * * * *

(e) * * *

(1) * * *

Name of non-regulatory SIP revision | Applicable geographic area | State submittal date | EPA approval date | Additional explanation
* * * * * * *
1997 Annual and 2006 24-Hour PM2.5 NAAQS Maintenance Plan | Liberty-Clairton PM2.5 Nonattainment Area | 11/30/22 | 7/24/26, 90 FR [INSERT FEDERAL REGISTER PAGE WHERE THE DOCUMENT BEGINS]
2012 Annual PM2.5 NAAQS Maintenance Plan | Allegheny County PM2.5 Nonattainment Area | 11/30/22 | 7/24/26, 90 FR [INSERT FEDERAL REGISTER PAGE WHERE THE DOCUMENT BEGINS] | See § 52.2059(aa).

* * * * *

3. Section 52.2059 is amended by adding paragraph (aa) to read as follows:

§ 52.2059 Control strategy: Particulate matter.

* * * * *

(aa) The EPA approves the maintenance plan for the Allegheny County nonattainment area for the 2012 annual PM2.5 NAAQS submitted by the Commonwealth of Pennsylvania on November 30, 2022. The maintenance plan includes the 2017, 2026, and 2035 PM2.5 and NOX motor vehicle emissions budgets (MVEBs) to be applied to all future transportation conformity determinations and analyses for the Allegheny County nonattainment area for the 2012 annual PM2.5 NAAQS.

Table 15 to Paragraph (aa)—Allegheny County Area's Motor Vehicle Emission Budgets for the 2012 Annual PM2.5 NAAQS in Tons per Year
Type of control strategy SIP | Year | PM2.5 | NOX | Effective date of SIP approval
Maintenance Plan | 2017 Budget | 257 | 8,046 | 7/24/26]
| 2026 Modeled | 161 | 3,748
| 2026 Safety Margin | 16 | 375
| 2026 Budget | 177 | 4,123
| 2035 Modeled | 128 | 2,638
| 2035 Safety Margin | 13 | 264
| 2035 Budget | 141 | 2,902

PART 81—DESIGNATION OF AREAS FOR AIR QUALITY PLANNING PURPOSES

4. The authority citation for part 81 continues to read as follows:

Authority: 42 U.S.C. 7401, et seq.

5. In § 81.339, amend the tables entitled “1997 Annual PM2.5 NAAQS” and “2006 24-Hour PM2.5 NAAQS” by revising the entry for “Liberty-Clairton, PA” to read as follows:

§ 81.339 Pennsylvania.

* * * * *

Pennsylvania—1997 Annual PM2.5 NAAQS
[Primary and secondary]
Designated area | Designation ᵃ: Date ¹ | Designation ᵃ: Type | Classification: Date ² | Classification: Type
* * * * * * *
Liberty-Clairton, PA:
Allegheny County (part) | August 25, 2025 | Attainment
Lincoln Borough, Clairton City, Glassport Borough, Liberty Borough, Port Vue Borough
* * * * * * *
ᵃ Includes Indian Country located in each county or area, except as otherwise specified.
¹ This date is 90 days after January 5, 2005, unless otherwise noted.
² This date is July 2, 2014, unless otherwise noted.

* * * * *

Pennsylvania—2006 24-Hour PM2.5 NAAQS
[Primary and secondary]
Designated area | Designation ᵃ: Date ¹ | Designation ᵃ: Type | Classification: Date ² | Classification: Type
* * * * * * *
Liberty-Clairton, PA:
Allegheny County (part) | August 25, 2025 | Attainment
Lincoln Borough, Clairton City, Glassport Borough, Liberty Borough, Port Vue Borough
* * * * * * *
ᵃ Includes Indian Country located in each county or area, except as otherwise specified.
¹ This date is 30 days after November 13, 2009, unless otherwise noted.
² This date is July 2, 2014, unless otherwise noted.

* * * * *

[FR Doc. 2025-13893 Filed 7-23-25; 8:45 am]

BILLING CODE 6560-50-P